DEPARTMENT OF HEALTH AND HUMAN SERVICES

Centers for Disease Control and Prevention

[Program Announcement 02175]

Applied Research on Antimicrobial Resistance (AR): Validation of National Committee for Clinical Laboratory Standards (NCCLS) Breakpoints for Bacterial Pathogens of Public Health Importance; Notice of Availability of Funds; Amendment

A notice announcing the availability of Fiscal Year 2002 funds to fund grants for Applied Research on Antimicrobial Resistance (AR): Validation of National Committee for Clinical Laboratory Standards (NCCLS) Breakpoints for Bacterial Pathogens of Public Health Importance was published in the Federal Register on June 4, 2002, Vol. 67, No. 107, pages 38501-38503. The notice is amended as follows: On page 38502, first column, Section E. Program Requirements, Paragraph 3, should be revised to read:

“2. For organisms for which NCCLS has yet to establish and publish a standardized susceptibility testing method, a method in line with other NCCLS methods would have to be elucidated (including the appropriate quality control organisms and the ranges of MICs or zone diameters that constituted a test that was in control). Thus, potential projects include validating existing interpretive criteria for pathogens of public health importance, developing new interpretive criteria for pathogens of public health importance using existing NCCLS methods and quality control, or developing new interpretive criteria and new antimicrobial susceptibility testing methods for pathogens of public health importance using existing NCCLS methods and quality control as a starting point for novel test development.”

Dated: June 21, 2002.
Sandra R. Manning,
CGFM, Director, Procurement and Grants Office, Centers for Disease Control and Prevention.

[FR Doc. 02-16232 Filed 7-3-02; 8:45 am]

BILLING CODE 4163-18-P